ENVIRONMENTAL PROTECTION AGENCY

40 CFR Part 707

Export Notification; Change to Reporting Requirements

CFR Correction

In Title 40 of the Code of Federal Regulations, Parts 700 to 789, revised as of July 1, 2008, on page 29, in § 707.60, the first sentence of the introductory text of paragraph (c)(2) is corrected to read as follows:

§ 707.60 Applicability and compliance.

* * * * *

(c) * * *

(2) No notice of export is required for the export of a chemical substance or mixture that is a known or potential human carcinogen where such chemical substance or mixture is present in a concentration of less than 0.1% (by weight or volume). * * *

* * * * *

[FR Doc. E9-8354 Filed 4-9-09; 8:45 am]

BILLING CODE 1505-01-D